NATIONAL SCIENCE FOUNDATION

Agency Information Collection Activities: Proposed Collection; Comment Request

AGENCY: National Science Foundation.

ACTION: Notice.

SUMMARY: The National Science Foundation (NSF) is announcing plans to request reinstatement and clearance of this collection. In accordance with the requirement of Section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by October 1, 2007 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton at (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: Recurring Study of National Science Foundation-sponsored Graduate Education Impacts or Legacy (GEIL). (Formerly called the Evaluation of the Initial Impacts of the Integrative Graduate Education Research and Traineeship (IGERT) Program.)

OMB Control No.: 3145-0182.

Expiration Date of Approval: July 31, 2005.

Abstract

The National Science Foundation (NSF) requests extension of data collection (e.g., interviews, surveys, focus groups, site visits) measuring NSF's contribution to the Nation's graduate education enterprise and overall science and engineering workforce. This continuation expands the data collection formerly called “The Evaluation of the Initial Impacts of the IGERT Program” most recently approved through July 2005 (OMB 3145-0182).

IGERT began data collection in the late 1990s for use in program research, management and evaluation. Data collection was concurrent with NSF-funding in order to document IGERT's initial impact within individual departments or institutions (often called projects), and on student, faculty and other participants as compared to the educational and training experiences of individuals who were external to IGERT. This request expands data collection to the portfolio of NSF-funded graduate education programs and projects, typically on a program-by-program sub-study basis in order to address long-term impact.

For over fifty years NSF has funded directly and indirectly (e.g. via institutions), tens of thousands of individuals who pursue post-undergraduate education or research training. NSF's graduate education portfolio includes:

• The Integrative Graduate Education Research and Traineeship (IGERT) program. IGERT provides grants to institutions to recruit and support doctoral students in interdisciplinary Science, Technology, Engineering, and Mathematics programs (STEM).

• The graduate Teaching Fellows in K-12 Education (GK-12) program. GK-12 provides grants to institutions to support STEM graduate students' acquisition of skills that will prepare them for careers in the 21st century.

• The Graduate Research Fellowship (GRF) program. GRF provides three years of funding to eligible individuals for graduate study leading to research-based masters or doctoral degrees at an IHE of their choice.

A longer list of NSF's graduate education opportunities and eligibility information is on the NSF Web site under the link: “Specialized information for Graduate Students” at: http://www.nsf.gov/funding/education/jsp?org=NSF@fund_type-2.

Through longitudinal study NSF aims to learn about the long-term impact or legacy of its program strategies in graduate education. A primary goal is to identify and follow-up with individuals who participated in NSF-funded programs or projects, especially students who graduated with masters or doctoral degrees. The primary means of data collection will be surveys. Site visits, focus groups and interviews are used to improve survey instruments, clarify responses or address questions of institutional impact. Typical respondents are former NSF-funded fellows, trainees or to her participants in NSF-funded projects or are professional scientists, engineers, IHE faculty, K-graduate educators, education administrators and K-IHE policymakers. NSF uses the analysis of responses to prepare and publish reports and to respond to requests from Committees of Visitors, Congress and the Office of Management and Budget, particularly as related to the Government Performance and Results Act (GPRA) and the Program Assessment Rating Tool (PART).

The study's broad questions include but are not limited to: What do individuals following post-participation in IGERT or other NSF-funded graduate education opportunities do? Do IGERT or other NSF-funded opportunities provide graduates with the professional and/or research skills needed to work in science and engineering? Are IGERT or other NSF-sponsored graduates satisfied that their NSF-funded graduate education advanced their careers in science or engineering? To what extent do IGERT or other former-NSF-sponsored graduates engage in the science and engineering workforce conduct inter- or multi-disciplinary science? Is there evidence of a legacy from NSF-funding that changed a degree-granting department beyond number of students supported and degrees awarded? To what extent have projects achieved or contributed to individual project goals or the NSF program goals? To what extent have NSF-funded projects or programs broadened participation by diverse individuals, particularly individuals traditionally underemployed in science or engineering, including but not limited to women, minorities, and persons-with-disabilities?

Respondents: Individuals or households, not-for-profit institutions, business or other for profit, and Federal, State, Local or Tribal Government.

Number of Respondents: 30,000.

Burden on the Public: 15,000 hours. This estimate covers three graduate education programs, their participants, and comparison group respondents over a three year period.

Dated: August 27, 2007.
Suzanne H. Plimpton,
Reports Clearance Officer, National Science Foundation.

[FR Doc. 07-4287 Filed 8-30-07; 8:45 am]

BILLING CODE 7555-01-M